DEPARTMENT OF AGRICULTURE

Agricultural Research Service

Notice of Intent To Seek Renewal of an Information Collection

AGENCY: Agricultural Research Service, USDA.

ACTION: Notice and request for comments.

SUMMARY: In accordance with the Paperwork Reduction Act of 1995 (44 U.S.C. Chapter 3) and the office of Management and Budget (OMB) regulations at 5 CFR part 1320, this notice announces the Agricultural Research Service's (ARS) intent to seek reinstatement of the ARS Animal Health National Program Assessment Survey, renamed as the Agricultural Research Service National Program Assessment Survey and expanded so that it can be used by other ARS National Programs. This voluntary information collection will give the beneficiaries of ARS research the opportunity to provide input on the impact of the research conducted by ARS in the last National Program cycle for each of the respective National Programs. This input will be used for planning the research agenda for the next 5-year program cycle.

DATES: Comments must be received by January 4, 2016 to be assured of consideration.

ADDRESSES: Address all comments concerning this notice to Dr. Robert C. MacDonald, Agricultural Project Coordinator, Agricultural Research Service, Office of National Programs, 5601 Sunnyside Avenue, GWCC, Room 4-2142, Beltsville, Maryland, 20705. Submit electronic comments to robert.macdonald@ars.usda.gov.

FOR FURTHER INFORMATION CONTACT: Dr. Robert C. MacDonald at (301) 504-1184.

SUPPLEMENTARY INFORMATION: Title: ARS Animal Health National Program Assessment Evaluation Form.

OMB Number: 0518-0042.

Expiration Date: April 30, 2016.

Type of Request: Approval to seek reinstatement of the ARS Animal Health National Program Assessment Survey, renamed as the Agricultural Research Service National Program Assessment Survey and expanded so that it can be used by other ARS National Programs. This voluntary information collection will give the beneficiaries of ARS research the opportunity to provide input on the impact of the research conducted by ARS in the last National Program cycle for each of the respective National Programs. This survey seeks input from the beneficiaries of research conducted by ARS for program planning and ensures alignment of the ARS National Programs with the needs of our customers, partners, and stakeholders.

Abstract: ARS research covers the span of nutrition, food safety and quality, animal and plant production and protection, and natural resources and sustainable agricultural systems. It is organized into seventeen National Programs addressing specific areas of this research. These

National Programs serve to bring coordination, communication, and empowerment to approximately 750 research projects carried out by ARS and focus on the relevance, impact, and quality of ARS research. The requested voluntary electronic evaluation survey will give the beneficiaries of ARS research the opportunity to provide input on the impact of several ARS National Programs. For the purpose of this National Program Assessment, impact is defined as

research that has influenced or will significantly influence the area covered by the National Program; has created or will create information, best practices, and/or economic opportunities for the National Program's customers, partners, and stakeholders; or has enabled or will enable action and regulatory agencies to formulate policies and regulations to support American agriculture. The report and evaluation form will be available online through a dedicated URL. The input provided through the completion of the evaluation form will be shared with customers, partners, and stakeholders as part of each National Program's assessment process.

The ARS has 17 National Programs, each of which are assessed every 5 years on a rotating basis as part of ARS' National Program planning cycle to ensure the relevance, quality, and impact of ARS research. The assessment serves as both a retrospective evaluation and as the foundation for future priority setting for the Agency. Although the exact process for an assessment varies by the nature of the National Program, all include the following four stages:

• Conducting an in-house program assessment and documenting research accomplishments and/or progress for presentation to external reviewers;

• Conducting an external review of accomplishments and/or progress, based on the preceding documentation, focused on the research's relevance, quality, and impact;

• Recording the results of the review; and

• Informing ARS leadership of evaluation results.

All of the methodologies for an assessment include developing a written report of accomplishments from research conducted during the previous 5 years. One assessment method involves sending the accomplishment report to a broad group of informed stakeholders for their reference and asking them to respond by completing an online survey about the impact of the National Program. This survey information is then compiled into a report that can be shared with stakeholders and ARS Administrators. The survey information can also be used for the next step of the National Program Planning cycle, which is planning for the following 5 years.

This survey has previously been used by only one of ARS' National Programs but interest in its use has expanded. Three National Programs will be using this survey within the 3-year information collection period and possibly a fourth, which has been included in the burden hour estimate. Because ARS National Program planning cycle is 5 years in length and is staggered among National Programs, only one or two National Programs will be using the survey in any given year. The survey consists of a set of questions used in common by several or all of the National Programs and a few questions specific to a given National Program.

Estimate of Burden: Completing the electronic evaluation form is estimated to average 15 minutes per response.

Estimated Number of Respondents: 800.

Estimated Number of Responses per Respondent: 1.

Estimated Total Annual Burden on Respondents: 200 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the input provided by a wide array of customers, and; (d) ways to minimize the burden of the collection of information on those who respond, including the use of appropriate automated, electronic, mechanical, or other technology. Comments should be sent to the address in the preamble. All responses to this notice will be summarized and included in the request for OMB approval. All comments will become a matter of public record.

Dated: October 26, 2015.
Simon Y. Liu,
Associate Administrator.

[FR Doc. 2015-28238 Filed 11-4-15; 8:45 am]

BILLING CODE 3410-03-P